DEPARTMENT OF THE TREASURY

Office of Foreign Assets Control

Unblocking of Specially Designated Nationals and Blocked Persons Pursuant to Executive Order 12978

AGENCY: Office of Foreign Assets Control, Treasury.

ACTION: Notice.

SUMMARY: The U.S. Department of the Treasury's Office of Foreign Assets Control (“OFAC”) is publishing the names of five individuals and one entity whose property and interests in property have been unblocked pursuant to Executive Order 12978 of October 21, 1995, “Blocking Assets and Prohibiting Transactions With Significant Narcotics Traffickers”.

DATES: The unblocking and removal from the list of Specially Designated Nationals and Blocked Persons (“SDN List”) of the five individuals and one entity identified in this notice whose property and interests in property were blocked pursuant to Executive Order 12978 of October 21, 1995, is effective on December 8, 2011.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available from OFAC's Web site (http://www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On December 8, 2011, the Director of OFAC removed from the SDN List the five individuals and one entity listed below, whose property and interests in property were blocked pursuant to the Order:

Individuals

1. JIMENEZ, Isabel Cristina, c/o INVERSIONES Y CONSTRUCCIONES ATLAS LTDA, Cali, Colombia; c/o CONTACTEL COMUNICACIONES S.A., Cali, Colombia; c/o COMERCIALIZADORA INTERTEL S.A., Cali, Colombia; DOB 1 Jan 1973; Cedula No. 66852533 (Colombia); Passport 66852533 (Colombia) (individual) [SDNT].

2. LOPEZ VALENCIA, Oscar Alberto, c/o FLEXOEMPAQUES LTDA., Cali, Colombia; Carrera 6A No. 11-43 501-2, Cali, Colombia; c/o PLASTICOS CONDOR LTDA., Cali, Colombia; c/o MEGAPLAST S.A., Palmira, Valle, Colombia; DOB 30 Aug 1960; Cedula No. 10537943 (Colombia) (individual) [SDNT].

3. MENDEZ DIAZ, Marlen, c/o COOPDISAN, Bucaramanga, Colombia; c/o DROGAS LA REBAJA BUCARAMANGA S.A., Bucaramanga, Colombia; Cedula No. 37813841 (Colombia); Passport 37813841 (Colombia) (individual) [SDNT].

4. SARMIENTO MARTINEZ, Diana, c/o TAURA S.A., Cali, Colombia; Cedula No. 65698369 (Colombia) (individual) [SDNT].

5. TRUJILLO CAICEDO, Francisco Javiar (a.k.a. “PACHO”), Calle 13C No. 75-95 piso 2, Cali, Colombia; Calle 8 Oeste No. 24C-75 apt. 1501, Cali, Colombia; c/o COLOR 89.5 FM STEREO, Cali, Colombia; Carrera 76A No. 6-34 apt. 107, Cali, Colombia; DOB 23 Nov 1960; Cedula No. 16264395 (Colombia) (individual) [SDNT].

Entity

1. OBURSATILES S.A. (a.k.a. OPERACIONES BURSATILES S.A. COMISIONISTA DE BOLSA), Avenida 4N No. 4N-30, Cali, Colombia; Avenida 68 No. 75A-50 Local 230, Bogota, Colombia; Calle 10 No. 4-40 of. 312, Cali, Colombia; Calle 19 No. 5-48 Local 226, Pereira, Colombia; Carrera 7 No. 74-56 of. 909, Bogota, Colombia; Carrera 15 No. 87-32, Bogota, Colombia; Carrera 22 No. 18-65 Local 28, Manizales, Colombia; Carrera 28 No. 29-06 Local 104, Palmira, Colombia; Carrera 49 No. 52-81 L-9923, Medellin, Colombia; Carrera 52 No. 72-65 Local 106, Barranquilla, Colombia; Carrera 66B No. 34A-76 Local 227, Medellin, Colombia; Centro Comercial Cosmocentro Local 103, Cali, Colombia; Transversal 71D No. 26-94 Sur Local 3504, Bogota, Colombia; NIT # 800012425-0 (Colombia) [SDNT].

Dated: December 8, 2011.
Adam J. Szubin,
Director, Office of Foreign Assets Control.

[FR Doc. 2011-32117 Filed 12-14-11; 8:45 am]

BILLING CODE 4810-AL-P